FEDERAL DEPOSIT INSURANCE CORPORATION

Agency Information Collection Activities: Submission for OMB Review; Comment Request (OMB No. 3064-0200)

AGENCY: Federal Deposit Insurance Corporation (FDIC).

ACTION: Agency information collection activities: Submission for OMB review; comment request.

SUMMARY: The FDIC, as part of its obligations under the Paperwork Reduction Act of 1995 (PRA), invites the general public and other Federal agencies to take this opportunity to comment on the renewal of the existing information collection described below (3064-0200).

DATES: Comments must be submitted on or before January 3, 2020.

ADDRESSES: Interested parties are invited to submit written comments to the FDIC by any of the following methods:

• https://www.FDIC.gov/regulations/laws/federal.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: On September 26, 2019, the FDIC requested comment for 60 days on a proposal to renew the information collections described below. No comments were received. The FDIC hereby gives notice of its plan to submit to OMB a request to approve the renewal of this collection, and again invites comment on its renewal.

Proposal to renew the following currently approved collection of information:

1. Title: Joint Standards for Assessing Diversity Policies and Practices.

OMB Number: 3064-0200.

Form: Diversity Self-Assessment of Financial Institutions Regulated by the FDIC. (Paper Form). Form No. 2710/05.

Diversity Self-Assessment of Financial Institutions Regulated by the FDIC. (Electronic Form). Form No. 2710/06.

Affected Public: Insured Financial institutions supervised by the FDIC.

Burden Estimate:

Summary of Annual Burden
Information collection (IC) description | Type of burden | Obligation to respond | Estimated number of respondents | Estimated number of responses | Estimated time per response (hours) | Frequency of response | Total estimated annual burden (hours)
Joint Standards for Assessing the Diversity Policies and Practices—Paper Form | Reporting | Voluntary | 120 | 1 | 8 | Annually | 960
Joint Standards for Assessing the Diversity Policies and Practices—Electronic Form | Reporting | Voluntary | 60 | 1 | 7 | Annually | 420
Joint Standards for Assessing the Diversity Policies and Practices—Own Submission | Reporting | Voluntary | 15 | 1 | 12 | Annually | 180
Total Estimated Annual Burden Hours |  |  |  |  |  |  | 1,560

General Description of Collection: This voluntary information collection applies to entities regulated by the FDIC for purposes of assessing their diversity policies and practices as described in the final Interagency Policy Statement Establishing Joint Standards for Assessing the Diversity Policies and Practices of Entities Regulated by the Agencies. The FDIC may use the information submitted by the entities it regulates to monitor progress and trends in the financial services industry with regard to diversity and inclusion in employment and contracting activities and to identify and highlight those policies and practices that have been successful. The FDIC will continue to reach out to the regulated entities and other interested parties to discuss diversity and inclusion in the financial services industry and share leading practices. The FDIC may also publish information disclosed by the entity, such as any identified leading practices, in a form that does not identify a particular institution or individual or disclose confidential business information. The current paper form and proposed electronic form can be reviewed at the following link:

Paper Form— https://www.fdic.gov/regulations/laws/federal/2019/3064-0200/proposed-paper-form-f2710-05.pdf

Electronic Form— https://www.fdic.gov/regulations/laws/federal/2019/3064-0200/proposed-electronic-form-f2710-06.pdf

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, on November 27, 2019.
Federal Deposit Insurance Corporation.
Annmarie H. Boyd,
Assistant Executive Secretary.

[FR Doc. 2019-26170 Filed 12-3-19; 8:45 am]

BILLING CODE 6714-01-P